OFFICE OF THE UNITED STATES TRADE REPRESENTATIVE

Generalized System of Preferences (GSP): Notice Regarding the 2009 Annual Product Review for Acceptance of Product Petitions

AGENCY: Office of the United States Trade Representative.

ACTION: Notice.

SUMMARY: The Office of the United States Trade Representative (USTR) received petitions in connection with the 2009 GSP Annual Review to modify the list of products that are eligible for duty-free treatment under the GSP program (“2009 GSP Annual Product Review”). This Notice announces the petitions accepted for review to add or remove products from the list of products eligible for duty-free treatment under GSP and sets forth the review schedule for comment and public hearings, for requesting participation in the hearings, for submitting pre-hearing and post-hearing briefs, and for commenting on the U.S. International Trade Commission's (USITC) report on probable economic effects. The list of accepted petitions is available at: http://www.ustr.gov/trade-topics/trade-development/preference-programs/generalized-system-preference-gsp/current-review-1 [2009 Annual Review] and at Regulations.gov, Docket Number USTR-2009-0036.

FOR FURTHER INFORMATION CONTACT: Tameka Cooper, GSP Program, Office of the United States Trade Representative, 1724 F Street, NW., Washington, DC 20508. The telephone number is (202) 395-6971, the fax number is (202) 395-2961, and the e-mail address is Tameka_Cooper@ustr.eop.gov.

DATES: The GSP regulations (15 CFR Part 2007) provide the schedule of dates for conducting an annual review unless otherwise specified in a Federal Register notice. The schedule for the 2009 GSP Annual Product Review is set forth below. Notification of any other changes will be given in the Federal Register.

November 6, 2009—Due date for submission of pre-hearing briefs and requests to appear at the GSP Subcommittee Public Hearing on the 2009 GSP Annual Product Review that include the name, address, telephone, fax, e-mail address and organization of witnesses for accepted product petitions.

November 17, 2009—Due date for submission of new petitions to grant waivers to CNLs for products exceeding the competitive need limitations (CNLs) in 2009 and for determinations of products not produced in the United States as of January 1, 1995.

November 19, 2009—GSP Subcommittee Public Hearing on all product petitions accepted for the 2009 GSP Annual Product Review in Rooms 1 and 2, 1724 F St., NW., Washington, DC 20508, beginning at 9:30 a.m.

December 3, 2009—Due date for submission of product petition post-hearing briefs.

February 2010—The USITC is scheduled to publish a public version of the report providing advice on the potential impacts on U. S. industry and consumers based on the product petitions accepted in the 2009 GSP Annual Product Review. Comments on the USITC report on these products is due 10 calendar days after the date of USITC's publication of the public version of the report.

June 30, 2010—Modifications to the list of articles eligible for duty-free treatment under the GSP resulting from the 2009 Annual Product Review will be announced on or about June 30, 2010, in the Federal Register, and any changes will take effect on the effective date announced. Notification of any changes to this date will be given in the Federal Register.

SUPPLEMENTARY INFORMATION: The GSP program provides for the duty-free importation of designated articles when imported from designated beneficiary developing countries. The GSP program is authorized by Title V of the Trade Act of 1974 (19 U.S.C. 2461, et seq.), as amended (the “1974 Act”), and is implemented in accordance with Executive Order 11888 of November 24, 1975, as modified by subsequent Executive Orders and Presidential Proclamations.

Petitions Requesting Modifications of Product Eligibility

In a Federal Register notice dated May 28, 2009, USTR announced that the deadline for the filing of product petitions, other than those requesting waivers of “competitive need limitations” (CNLs), country practice petitions for the 2009 GSP Annual Review was June 24, 2009 (74 FR 25605). The deadline for the filing of product petitions requesting waivers of the CNLs and determinations that any eligible products were not produced in the United States as of January 1, 1995, was announced to be November 17, 2009.

The petitions that were received requested 164 modifications in the list of GSP-eligible products by adding new products for eligibility from all GSP beneficiaries, by removing products from eligibility when imported from specific GSP-eligible countries, or other changes. The interagency GSP Subcommittee of the Trade Policy Staff Committee (TPSC) has reviewed the product petitions, and the TPSC has decided to accept for review the product petitions listed in “List of Petitions Accepted in the 2009 GSP Annual Product Review” posted on the USTR Web site and available on Regulations.gov docket number USTR-2009-0036. That list sets forth, for each type of change requested: the case number, the Harmonized Tariff Schedule of the United States (HTS) subheading number, a brief description of the product (see the HTS for an authoritative description available on the U.S. International Trade Commission Web site http://www.usitc.gov/tata/hts/), and the petitioner for each petition included in this review. Acceptance of a petition for review does not indicate any opinion with respect to the disposition on the merits of the petition. Acceptance indicates only that the listed petitions have been found eligible for review by the TPSC and that such review will take place.

The GSP Subcommittee of the TPSC invites testimony at the public hearing, based on receipt of requests to testify, and comments in support of or in opposition to any petition which has been accepted thus far for the 2009 GSP Annual Product Review. Submissions should comply with 15 CFR Part 2007, except as modified below. All submissions should identify the subject article(s) in terms of the case number and eight digit HTSUS subheading number, if applicable, as shown in the “List of Petitions Accepted in the 2009 GSP Product Annual Review” available at: http://www.ustr.gov/trade-topics/trade-development/preference-programs/generalized-system-preference-gsp/current-review-1 [2009 Annual Review].

Requirements for Submissions

Submissions in response to this notice (including requests to testify, written comments, and pre-hearing and post-hearing briefs), with the exception of business confidential submissions, must be submitted electronically by 5 p.m., Tuesday, November 6, 2009, or by 5 p.m., Thursday, December 3, 2009 (post hearing briefs only) using http://www.regulations.gov, docket number USTR-2009-0036. Instructions for submitting business confidential versions are provided below. Hand-delivered submissions will not be accepted. Submissions must be submitted in English to the Chairman of the GSP Subcommittee, Trade Policy Staff Committee, by the applicable deadlines set forth in this notice.

To make a submission using http://www.regulations.gov, enter docket number USTR-2009-0036 on the home page and click “Search.” The site will provide a search-results page listing all documents associated with this docket. Locate the reference to this notice by selecting “Notices” under “Document Type”. In the results table below, click on the “Send a Comment” link that corresponds to this notice. Follow the instructions given on the screen to submit the comment. The http://www.regulations.gov Web site offers the option of providing comments by filling in a “Type Comment” field or by attaching a document. While both options are acceptable, USTR prefers submissions in the form of an attachment.

Comments must be in English, with the total submission not to exceed 30 single-spaced standard letter-size pages in 12-point type, including attachments. Any data attachments to the submission should be included in the same file as the submission itself, and not as separate files.

Any person or party making a submission is strongly advised to review the GSP regulations and GSP Guidebook (available at: http://www.ustr.gov/trade-topics/trade-development/preference-programs/generalized-system-preference-gsp/gsp-program-inf)

Business Confidential Submissions

Persons wishing to submit business confidential information must submit that information by electronic mail to FR0807@ustr.eop.gov. Business confidential submissions will not be accepted at http://www.regulations.gov. For any document containing business confidential information submitted as a file attached to an e-mail transmission, the file name of the business confidential version should begin with the characters “BC.” The “BC” should be followed by the name of the party (government, company, union, association, etc.) that is making the submission.

If a comment contains business confidential information that the submitter wishes to protect from public disclosure, the confidential submission must be marked “BUSINESS CONFIDENTIAL” at the top and bottom of each page. The submitter must provide a written explanation of why the information should be protected in accordance with 15 CFR 2007.7(b). In addition, the submission must be accompanied by a non-confidential version that indicates, with asterisks, where confidential information was redacted or deleted. The top and bottom of each page of the non-confidential version must be marked either “PUBLIC VERSION” or “NON-CONFIDENTIAL”. The file name of the public version should begin with the characters “P”. The “P” should be followed by the name of the party (government, company, union, association, etc.) that is making the submission.

Business confidential comments that are submitted without the required markings or that are not accompanied by a properly marked non-confidential version as set forth above may not be accepted or may be treated as public documents. A copy of the public version will be posted on Regulations.gov.

Notice of Public Hearing

A hearing will be held by the GSP Subcommittee of the TPSC on Thursday, November 19, 2009, for product petitions accepted for the 2009 GSP Annual Review (i.e., for product petitions other than those requesting CNL waivers) beginning at 9:30 a.m. at the Office of the U.S. Trade Representative, Rooms 1 and 2, 1724 F St., NW., Washington, DC 20508. The hearing will be open to the public, and a transcript of the hearing will be made available for public inspection or can be purchased from the reporting company. No electronic media coverage will be allowed.

All interested parties wishing to make an oral presentation at the hearing must submit, following the above “Requirements for Submissions”, the name, address, telephone number, facsimile number, and e-mail address (if available), of the witness(es) representing their organization to Marideth Sandler, Executive Director of the GSP Program by 5 p.m., Friday, November 6, 2009. Requests to present oral testimony in connection with the public hearing must be accompanied by a written brief or statement, in English, and also must be received by 5 p.m., Friday, November 6, 2009. Oral testimony before the GSP Subcommittee will be limited to five-minute presentations that summarize or supplement information contained in briefs or statements submitted for the record. Post-hearing briefs or statements will be accepted if they conform with the regulations cited above and are submitted, in English, by 5 p.m., Thursday, December 3, 2009, following the “Requirements for Submissions” above. Parties not wishing to appear at the public hearing may submit pre-hearing briefs or statements, in English, by 5 p.m., November 6, 2009, and post-hearing written briefs or statements, in English, by 5 p.m., December 3, 2009, also in accordance with the “Requirements for Submissions” above.

Receipt of Advice From the USITC

With respect to petitions to add or remove articles from the “List of Product Petitions Accepted in the 2009 GSP Annual Review,” and in accordance with sections 503(d)(1)(A) of the 1974 Act and the authority delegated by the President, pursuant to section 332(g) of the Tariff Act of 1930, the U.S. Trade Representative has requested that the USITC provide its advice on the probable economic effect of such additions or removals on U.S. industries producing like or directly competitive articles and on consumers. Comments by interested persons on the USITC Report prepared as part of the product review other than those requesting CNL waivers should be submitted by 5 p.m., 10 calendar days after the date of USITC publication of the public version of its report.

Marideth J. Sandler,
Executive Director, Generalized System of Preferences (GSP) Program, Office of the U.S. Trade Representative.

[FR Doc. E9-25459 Filed 10-21-09; 8:45 am]

BILLING CODE 3190-W0-P